DEPARTMENT OF ENERGY

Federal Energy Regulatory Commission

[Project No. 2816-049]

North Hartland, LLC; Notice of Intent To File License Application, Filing of Pre-Application Document, Approving Use of the Traditional Licensing Process

a. Type of Filing: Notice of Intent to File License Application and Request to Use the Traditional Licensing Process.

b. Project No.: 2816-049.

c. Date Filed: November 29, 2016.

d. Submitted By: North Hartland, LLC.

e. Name of Project: North Hartland Hydroelectric Project.

f. Location: At the existing U.S. Army Corps of Engineers' North Hartland Dam on the Ottauquechee River in Hartland, Windsor County, Vermont. The project would occupy United States lands administered by the U.S. Army Corps of Engineers.

g. Filed Pursuant to: 18 CFR 5.3 of the Commission's regulations.

h. Potential Applicant Contact: Mr. Andrew Locke, North Hartland, LLC c/o Essex Hydro Associates, LLC, 55 Union Street, Boston, MA 02108; phone: (617) 367-0032.

i. FERC Contact: Bill Connelly at (202) 502-8587; or email at william.connelly@ferc.gov.

j. North Hartland, LLC filed its request to use the Traditional Licensing Process on November 29, 2016. North Hartland, LLC provided public notice of its request on November 28, 2016. In a letter issued on January 26, 2017, the Director of the Division of Hydropower Licensing approved North Hartland, LLC's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the Vermont State Historic Preservation Officer, as required by section 106, National Historic Preservation Act, and the implementing regulations of the Advisory Council on Historic Preservation at 36 CFR 800.2.

l. North Hartland, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

n. The licensee states its unequivocal intent to submit an application for a new license for Project No. 2816-049. Pursuant to 18 CFR 16.8, 16.9, and 16.10 each application for a new license and any competing license applications must be filed with the Commission at least 24 months prior to the expiration of the existing license. All applications for license for this project must be filed by November 30, 2019.

o. Register online at http://www.ferc.gov/docs-filing/esubscription.asp to be notified via email of new filing and issuances related to this or other pending projects. For assistance, contact FERC Online Support.

Dated: January 26, 2017.
Nathaniel J. Davis, Sr.,
Deputy Secretary.

[FR Doc. 2017-02087 Filed 1-31-17; 8:45 am]

BILLING CODE 6717-01-P